DEPARTMENT OF THE INTERIOR

Bureau of Land Management

[OR-958-1820-01; GP0-0107; OR-06519]

Public land order No. 7438; Revocation of Public Land Order No. 2407; Oregon

AGENCY: Bureau of Land Management, Interior.

ACTION: Public land order.

SUMMARY: This order revokes in its entirety the remaining 2,230 acres withdrawn by Public Land Order No. 2407. The original order withdrew National Forest System lands as a roadside zone. The lands are no longer needed for the purpose for which they were withdrawn. Of the lands being revoked, 225 acres are within an overlapping Forest Service withdrawal and will remain closed to surface entry, mining, and mineral leasing. The revocation is needed to make lands available for several land tenure adjustments in accordance with the provisions of Section 206 of the Federal Land Policy and Management Act of 1976. This action will open the lands to such forms of disposition as may by law be made of National Forest System lands and to mining, subject to valid existing rights. The lands have been and will remain open to mineral leasing.

EFFECTIVE DATE: April 28, 2000.

FOR FURTHER INFORMATION CONTACT: Michael Barnes, BLM Oregon/Washington State Office, P.O. Box 2965, Portland, Oregon 97208-2965, 503-952-6155.

By virtue of the authority vested in the Secretary of the Interior by Section 204 of the Federal Land Policy and Management Act of 1976, 43 U.S.C. 1714 (1994), it is ordered as follows:

1. Public Land Order No. 2407 dated June 21, 1961, which withdrew National Forest System lands for road side zone purposes, is hereby revoked in its entirety as to the remaining withdrawn lands described in the order published in Federal Register Volume 26 page 5756, dated June 28, 1961.

2. At 8:30 a.m. on April 28, 2000, the lands shall be opened to such forms of disposition as may by law be made of National Forest System lands, including location and entry under the United States mining laws, subject to valid existing rights, the provisions of existing withdrawals, other segregations of record, and the requirements of applicable laws. Appropriation of lands under the general mining laws prior to the date and time of restoration is unauthorized. Any such attempted appropriation, including attempted adverse possession under 30 U.S.C. 38 (1994), shall vest no rights against the United States. Acts required to establish a location and to initiate a right of possession are governed by the State law where not in conflict with Federal law. The Bureau of Land Management will not intervene in disputes between rival locators over possessory rights since Congress has provided for such determinations in local courts.

Dated: March 10, 2000.
Kevin Gover,
Assistant Secretary of the Interior.

[FR Doc. 00-7668 Filed 3-28-00; 8:45 am]

BILLING CODE 4310-33-P